DEPARTMENT OF COMMERCE

National Oceanic and Atmospheric Administration

RIN 0648-XD562

Endangered and Threatened Species; Initiation of a Status Review for the Guadalupe Fur Seal

AGENCY: National Marine Fisheries Service (NMFS), National Oceanic and Atmospheric Administration, Commerce.

ACTION: Notice of initiation of a status review; request for information.

SUMMARY: The National Marine Fisheries Service (NMFS) announces a status review of the Guadalupe fur seal (Arctocephalus townsendi) under the Endangered Species Act of 1973 (ESA). A status review is a periodic undertaking conducted to ensure that the listing classification of a species is accurate. A status review is based on the best scientific and commercial data available at the time of the review; therefore, we are requesting submission of any such information on the Guadalupe fur seal population in the eastern Pacific waters that has become available since the last Guadalupe fur seal status review in 1984.

DATES: To allow us adequate time to conduct these reviews, we must receive your information no later than December 22, 2014. However, we will continue to accept new information about any listed species at any time.

ADDRESSES: You may submit comments on this document, identified by NOAA-NMFS-2014-0131, by any of the following methods:

1. Electronic Submissions: Submit all electronic public comments via the Federal e-Rulemaking Portal www.regulations.gov. To submit comments via the e-Rulemaking Portal, first click the “submit a comment” icon, then enter NOAA-NMFS-2014-0131 in the keyword search. Locate the document you wish to comment on from the resulting list and click on the “Submit a Comment” icon on the right of that line.

2. Facsimile (fax): 562-980-4027, Attn: Christina Fahy.

3. Mail or hand-delivery: Christina Fahy, National Marine Fisheries Service, West Coast Regional Office, 501 West Ocean Blvd.; Suite 4200; Long Beach, California 90802.

Instructions: Comments must be submitted by one of the above methods to ensure that the comments are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous). Attachments to electronic comments will be accepted in Microsoft Word or Excel, WordPerfect, or Adobe PDF file formats only.

FOR FURTHER INFORMATION CONTACT: Christina Fahy, West Coast Region, 562-980-4023.

SUPPLEMENTARY INFORMATION: Section 4(c)(2)(A) of the ESA requires that we conduct a review of listed species at least once every five years. On the basis of such reviews under section 4(c)(2)(B), we determine whether a particular species should be removed from the list (delisted), or reclassified from endangered to threatened, or from threatened to endangered. Delisting a species must be supported by the best scientific and commercial data available, substantiating that the species is neither endangered nor threatened for one or more of the following reasons: (1) The species is considered extinct; (2) the species is considered to be recovered; and/or (3) the original data available when the species was listed, or the interpretation of such data, were in error. Any change in Federal classification would require a separate rulemaking process. The regulations in 50 CFR 424.21 require that we publish a notice in the Federal Register announcing those species currently under active review. This notice announces active review of the Guadalupe fur seal, currently listed globally as threatened.

Public Solicitation of New Information

To ensure that the review is complete and based on the best available scientific and commercial information, we are soliciting new information from the public, relevant governmental agencies, tribes, the scientific community, industry, environmental entities, and any other interested parties concerning the status of the Guadalupe fur seal.

Status reviews consider the best scientific and commercial data and all new information that has become available since the listing determination or most recent status review. Categories of requested information include: (1) Species biology including, but not limited to, population trends, distribution, abundance, demographics, and genetics; (2) habitat conditions including, but not limited to, amount, distribution, and suitability; (3) conservation measures that have been implemented that benefit the species; (4) status and trends of threats; and (5) other new information, data, or corrections including, but not limited to, taxonomic or nomenclatural changes, identification of erroneous information contained in the list, and improved analytical methods. Any new information will be considered during the status review.

Authority: 16 U.S.C. 1531 et seq.

Dated: October 16, 2014.
Angela Somma,
Chief, Endangered Species Division, Office of Protected Resources, National Marine Fisheries Service.

[FR Doc. 2014-25017 Filed 10-21-14; 8:45 am]

BILLING CODE 3510-22-P